ENVIRONMENTAL PROTECTION AGENCY

[FRL-7778-2]

National Advisory Council for Environmental Policy and Technology

AGENCY: Environmental Protection Agency (EPA).

ACTION: Notice of meeting.

SUMMARY: Under the Federal Advisory Committee Act, Public Law 92-463, EPA gives notice of a meeting of the National Advisory Council for Environmental Policy and Technology (NACEPT). NACEPT provides advice and recommendations to the Administrator of EPA on a broad range of environmental policy, technology, and management issues. NACEPT consists of a representative cross-section of EPA's partners and principle constituents who provide advice and recommendations on policy issues and serve as a sounding board for new strategies that the Agency is developing. The Council is a proactive, strategic panel of experts that identifies emerging challenges facing EPA and responds to specific charges requested by the Administrator and the program office managers. The purpose of the meeting is to discuss and approve the recommendations of the NACEPT Compliance Assistance Advisory Committee, a subcommittee under the auspices of NACEPT. The Council will also address a range of issues, including environmental technology, EPA's Draft Report on the Environment, environmental foresight, collaborative problem-solving, and corporate branding for EPA.

DATES: NACEPT will hold a two day public meeting on Thursday, July 8, 2004, from 9 a.m. to 5:30 p.m. and Friday, July 9, from 9 a.m. to 3 p.m.

ADDRESSES: The meeting will be held at The Fairmont Hotel 2401 M Street NW., Washington, DC. The meeting is open to the public, with limited seating on a first-come, first-served basis.

FOR FURTHER INFORMATION CONTACT: Sonia Altieri, Designated Federal Officer, altieri.sonia@epa.gov, 202-233-0061, U.S. EPA, Office of Cooperative Environmental Management (1601E), 1200 Pennsylvania Avenue NW, Washington, DC 20460.

SUPPLEMENTARY INFORMATION: Requests to make oral comments or provide written comments to the Council should be sent to Sonia Altieri, Designated Federal Officer using the contact information below by July 1, 2004.

The public is welcome to attend all portions of the meeting.

Meeting Access: Individuals requiring special accommodation at this meeting, including wheelchair access, should contact Sonia Altieri at least five business days prior to the meeting so that appropriate arrangements can be made.

Dated: June 17, 2004.
Daiva Balkus,
Director, Office of Cooperative Environmental Management.

[FR Doc. 04-14384 Filed 6-23-04; 8:45 am]

BILLING CODE 6560-50-P